DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2010 Census.

Form Number(s): Various.

OMB Control Number: 0607-0919.

Type of Request: Revision of a currently approved collection.

Burden Hours: 23,990,300.

Number of Respondents: 146,746,000.

Average Hours Per Response: 9 minutes and 40 seconds.

Needs and Uses: The U.S. Census Bureau (Census Bureau) requests authorization from the Office of Management and Budget (OMB) to collect data from the public as part of the 2010 Census. Article 1, Section 2 of the United States Constitution mandates that the U.S. House of Representatives be reapportioned every 10 years by conducting a national census of all residents. In addition to the reapportionment of the U.S. Congress, by law, Census data are required in order to redraw legislative district boundaries. Census data also are used to determine funding allocations for the distribution of hundreds of billions of dollars of federal and state funds each year.

Census 2000 was an operational and data quality success. However, that success was achieved at great operational risk and great expense. In response to the lessons learned from Census 2000, and in striving to better meet our Nation's ever-expanding needs for social, demographic, and geographic information, the U.S. Department of Commerce and the Census Bureau developed a multi-year effort to completely modernize and re-engineer the 2010 Census of Population and Housing. This effort required an iterative series of tests in 2003 thru 2008 that provided an opportunity to evaluate new or improved question wording and questionnaire design, methodologies, and use of technology.

The 2003 Census Test was conducted, and designed to evaluate alternative self-response options and alternative presentation of the race and Hispanic origin question. The 2004 Census Test studied new methods to improve coverage, including procedures for reducing duplication, and tested respondent reaction to revised race and Hispanic origin questions, examples, and instructions. The 2005 National Census Test was designed to evaluate variations of questionnaire content and methodology; the 2006 Census Test relied on the results of the 2004 Census Test to expand on the number of new and refined methods; the 2007 test refined the design of the bilingual form; and the scope of the 2008 Census Dress Rehearsal was reduced to carrying out address canvassing of neighborhoods to improve these processes, along with mailout/mailback processes. Many of the results of these undertakings are applied to the final plans for the 2010 Census operations where feasible.

From the 2010 Census, the Census Bureau will produce the basic population totals by state for Congressional apportionment, as mandated by the Constitution, and more specifically elaborated in Title 13 U.S. Code. Title 13 of the United States Code also provides for the confidentiality of responses to various surveys and censuses.

In compliance with Public Law 94-171, for each state, the Census Bureau will tabulate total population counts by race, Hispanic origin, and, for those 18 years of age and over, by a variety of census geographic areas including legislative district, voting district, and census tabulation blocks. In compliance with Public Law 94-171, the Census Bureau also will tabulate housing unit counts by occupancy status (and vacant).

This clearance request covers the 50 states, the District of Columbia, Puerto Rico, and federally affiliated Americans overseas. To enumerate these areas and overseas Americans, there are several planned operations that will be performed by various staffs in the field, at headquarters, regional census centers, and at local census offices. These operations are intended to improve the accuracy of census coverage and reduce operational risk compared to Census 2000. The clearance request for enumeration of the U.S. Virgin Islands, the Commonwealth of the Northern Mariana Islands, the Pacific Island Area of America Samoa will be covered under a separate information collection request to OMB.

Affected Public: Individuals or households.

Frequency: One-time.

Respondent's Obligation: Mandatory.

Legal Authority: Title 13 U.S.C., Sections 141 & 193.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: September 3, 2008.
Gwellnar Banks,
Management Analyst, Office of the Chief Information Officer.

[FR Doc. E8-20781 Filed 9-8-08; 8:45 am]

BILLING CODE 3510-07-P